ENVIRONMENTAL PROTECTION AGENCY

[FRL-9492-6]

Proposed Settlement Agreements, Clean Air Act Citizen Suit

AGENCY: Environmental Protection Agency (EPA).

ACTION: Notice of Proposed Settlement Agreements; Request for Public Comment.

SUMMARY: In accordance with section 113(g) of the Clean Air Act, as amended (“CAA”), 42 U.S.C. 7413(g), notice is hereby given of two proposed settlement agreements to resolve two cases filed by the WildEarth Guardians (“Guardians”) involving EPA actions under the CAA Title V operating permit program. On November 17, 2010, Guardians filed a petition with the Environmental Appeals Board (“EAB”) challenging a Title V Renewal Permit issued by EPA Region 8 on October 18, 2010 to BP America Production Company (“BP”) for its Florida River Compression Station Facility (In re BP America Production Co., Florida River Compression Facility, Appeal No. CAA 10-04). On April 25, 2011, Guardians also filed a petition in the United States Court of Appeals for the Tenth Circuit (WildEarth Guardians v. EPA, No. 11-9527) challenging the Administrator's February 2, 2011 order denying an administrative petition to object to a July 14, 2010 response of the Colorado Department of Public Health and Environment, Air Pollution Control Division regarding the issuance of a renewed title V permit for Anadarko Petroleum Corporation's Frederick Compressor Station. Under the proposed settlement agreements, EPA would agree to undertake a pilot program for the purpose of studying, improving, and streamlining source determinations in the oil and gas industry in new or renewal Title V permits for which Region 8 is the initial Part 71 permitting authority.

DATES: Written comments on the proposed settlement agreements must be received by December 16, 2011.

ADDRESSES: Submit your comments, identified by Docket ID number EPA-HQ-OGC-2011-0915 online at http://www.regulations.gov (EPA's preferred method); by email to oei.docket@epa.gov; by mail to EPA Docket Center, Environmental Protection Agency, Mailcode: 2822T, 1200 Pennsylvania Ave. NW., Washington, DC 20460-0001; or by hand delivery or courier to EPA Docket Center, EPA West, Room 3334, 1301 Constitution Ave. NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: Sara L. Laumann, Office of Regional Counsel, EPA Region 8, 1595 Wynkoop Street, Denver, CO 80202-2466; telephone: (303) 312-6443; fax number: (303) 312-6859; email address: laumann.sara@epa.gov.

SUPPLEMENTARY INFORMATION:

I. Additional Information About the Proposed Settlement Agreements

These proposed settlement agreements would resolve two cases filed by Guardians. First, Guardians filed a case in the EAB challenging a Title V Renewal Permit issued by EPA Region 8 on October 18, 2010 to BP's Florida River Compression Station Facility (In re BP America Production Co., Florida River Compression Facility, Appeal No. CAA 10-04). BP intervened as a party in the EAB action. Second, Guardians filed a petition in the United States Court of Appeals for the Tenth Circuit challenging the Administrator's February 2, 2011 order denying an administrative petition to object to a July 14, 2010 response of the Colorado Department of Public Health and Environment regarding the issuance of a renewed title V permit for Anadarko Petroleum Corporation's Frederick Compressor Station. The State of Colorado and Kerr-McGee Gathering LLC intervened as parties in the 10th Circuit action. Under the proposed settlement agreements, EPA would agree to undertake a pilot program for the purpose of studying, improving, and streamlining source determinations in the oil and gas industry in new or renewal Title V permits for which Region 8 is the initial Part 71 permitting authority. The pilot program would begin upon the effective date of the settlement agreement in the EAB case and would continue for a duration equal to the earlier of two years or six Title V new or renewal permit applications for which Region 8 is the initial Part 71 permitting authority. Additional information regarding the Region 8 pilot program can be found in an attachment to the proposed settlement agreement for the EAB action, which is available in the docket for this action. Under the proposed settlement agreements, within 15 days of a fully executed settlement agreement in the EAB action, Guardians will file a motion with the EAB to dismiss with prejudice its pending petition for review in Appeal No. CAA 10-04 and the parties in the Tenth Circuit case will file an appropriate pleading for the dismissal of Guardians' petition for review with prejudice. All parties will bear their own costs and attorneys' fees.

For a period of thirty (30) days following the date of publication of this notice, the Agency will accept written comments relating to the proposed settlement agreements from persons who were not named as parties or intervenors to the respective actions at issue. EPA or the Department of Justice may withdraw or withhold consent to the proposed settlements agreements if the comments disclose facts or considerations that indicate that such consent is inappropriate, improper, inadequate, or inconsistent with the requirements of the Act. Unless EPA or the Department of Justice determines that consent to these settlements agreements should be withdrawn, the terms of the settlements agreements will be affirmed.

II. Additional Information About Commenting on the Proposed Settlement Agreements

A. How can I get a copy of the proposed settlement agreements?

The official public docket for this action (identified by Docket ID No. EPA-HQ-OGC-2011-0915) contains a copy of the proposed settlement agreements. The official public docket is available for public viewing at the Office of Environmental Information (OEI) Docket in the EPA Docket Center, EPA West, Room 3334, 1301 Constitution Ave. NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through http://www.regulations.gov. You may use the http://www.regulations.gov to submit or view public comments, access the index listing of the contents of the official public docket, and to access those documents in the public docket that are available electronically. Once in the system, select “search,” then key in the appropriate docket identification number.

It is important to note that EPA's policy is that public comments, whether submitted electronically or in paper, will be made available for public viewing online at http://www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and to whom do I submit comments?

You may submit comments as provided in the ADDRESSES section. Please ensure that your comments are submitted within the specified comment period. Comments received after the close of the comment period will be marked “late.” EPA is not required to consider these late comments.

If you submit an electronic comment, EPA recommends that you include your name, mailing address, and an email address or other contact information in the body of your comment and with any disk or CD-ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the http://www.regulations.gov Web site to submit comments to EPA electronically is EPA's preferred method for receiving comments. The electronic public docket system is an “anonymous access” system, which means EPA will not know your identity, email address, or other contact information unless you provide it in the body of your comment. In contrast to EPA's electronic public docket, EPA's electronic mail (email) system is not an “anonymous access” system. If you send an email comment directly to the Docket without going through http://www.regulations.gov, your email address is automatically captured and included as part of the comment that is placed in the official public docket, and made available in EPA's electronic public docket.

Dated: November 4, 2011.
Kevin McLean,
Acting Associate General Counsel.

[FR Doc. 2011-29644 Filed 11-15-11; 8:45 am]

BILLING CODE 6560-50-P